DEPARTMENT OF THE INTERIOR

National Park Service

Notice of Inventory Completion: Texas Parks and Wildlife Department, Austin, TX

AGENCY: National Park Service, Interior.

ACTION: Notice.

Notice is here given in accordance with the Native American Graves Protection and Repatriation Act (NAGPRA), 25 U.S.C. 3003, of the completion of an inventory of human remains and associated funerary objects in the control of the Texas Parks and Wildlife Department, Austin, TX. The human remains and associated funerary objects were removed from El Paso County, TX.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

A detailed assessment of the human remains was made by Texas Parks and Wildlife Department professional staff in consultation with representatives of the Comanche Nation, Oklahoma; Kiowa Indian Tribe of Oklahoma; Mescalero Apache Tribe of the Mescalero Reservation, New Mexico; Pueblo of Isleta, New Mexico; and the Ysleta Del Sur Pueblo of Texas.

In 1972, human remains representing a minimum of four individuals were removed from House 2, Hueco Tanks Village, Hueco Tanks State Park and Historic Site, El Paso County, TX, during an archeological excavation. The excavation was done under the direction of George Kegley, archeologist, Texas Parks and Wildlife Department. The human remains were inventoried as Burials 1 to 4. No known individuals were identified. The nine associated funerary objects are one bone awl, three bags of debitage, three bags of ceramic shreds, one piece of adobe-like material and one rock.

Based on the burial context and their association with House 2 at Hueco Tanks Village, archeological evidence indicates that they are Native American and were probably interred during the Doña Ana phase, between A.D. 1000 and 1300.

In August 1979, human remains representing a minimum of one individual were removed from Hueco Tanks State Park and Historic Site, El Paso County, TX. The human remains were found partially exposed by park visitors. Later that same month, the remains were removed by George Kegley, archeologist, Texas Parks and Wildlife Department. The human remains were inventoried as “Burial 5.” No known individual was identified. The 21 associated funerary objects are 7 pottery sherds, 1 obsidian projectile point, 9 chipped stone debitage and 4 rocks.

The ceramics recovered from the sediment around the burial indicate to archeologists that this grave dates to the Formative period (A.D. 200 to 1450), even though it includes a Late Archaic dart point.

In May 1982, human remains representing a minimum of one individual were removed from the wall of a deep arroyo, Hueco Tanks State Park and Historic Site, El Paso County, TX, by a park visitor. The human remains were inventoried as “Burial 6.” No known individual was identified. The two associated funerary objects are one projectile point and one lot of sherds.

The point was found in the rib area of the individual and the El Paso Brownware sherds were recovered from sediment above the grave, therefore, archeologists date the grave to the Archaic period (6000 B.C. to A.D. 200) or the Formative period (A.D. 200 to 1450) (Ralph 1997:105, 107).

In July 1982, human remains representing a minimum of one individual were removed from the wall of a deep arroyo, Hueco Tanks State Park and Historic Site, El Paso County, TX, by Ron Ralph. The human remains were inventoried as “Burial 7.” No known individual was identified. The 10 associated funerary objects are 7 chipped stone flakes, 2 sherds and 1 lead shotgun pellet.

Artifacts in the sediment around the burial indicate that this grave dates to the Formative period, between A.D. 200 and 1450. The shotgun pellet was probably introduced into sediments around the burial accidentally in recent times, but is considered to be a funerary object based on tribal consultation.

In November 1991, human remains representing a minimum of one individual were removed from a narrow ledge in Hueco Tanks State Park and Historic Site, El Paso County, TX, by rock climbers. No known individual was identified. The human remains were inventoried as “Burial 8.” The 54 associated funerary objects are 9 shell disk beads and 1 pot, which contains 44 shell beads.

The type of vessel is known as a culinary shoe pot, and American Southwest archeologists generally date these vessels between A.D. 1250 and 1700. Similar cooking pots continue to be used today by native groups in Central and South America (Dixon 1963:594-596, 606).

At an unknown date, human remains representing a minimum of one individual were removed from locality CA7, in Hueco Tanks State Park and Historic Site, El Paso County, TX, by a park visitor. The human remains were inventoried as “Burial 9.” No known individual was identified. No associated funerary objects are present.

At an unknown date, human remains representing a minimum of one individual were removed from locality ES3, in Hueco Tanks State Park and Historic Site, El Paso County, TX, by park staff. The human remains were inventoried as “Burial 10.” No known individual was identified. No associated funerary objects are present.

At an unknown date, human remains representing a minimum of one individual were removed from House 3, Hueco Tanks Village, in Hueco Tanks State Park and Historic Site, El Paso County, TX. The human remains were inventoried as “Burial 11.” The burial dates to the Doña Ana phase (A.D. 1000 to 1300). No known individual was identified. No associated funerary objects are present.

At an unknown date, human remains representing a minimum of one individual were removed from House 4, Hueco Tanks Village, in Hueco Tanks State Park and Historic Site, El Paso County, TX. The human remains were inventoried as “Burial 12.” The burial dates to the Doña Ana phase (A.D. 1000 to 1300). No known individual was identified. No associated funerary objects are present.

At an unknown date, human remains representing a minimum of one individual were removed Hueco Tanks Village, in Hueco Tanks State Park and Historic Site, El Paso County, TX. The human remains were inventoried as “Burial 13.” No known individual was identified. No associated funerary objects are present.

At an unknown date, human remains representing a minimum of one individual were removed from the Hueco Tanks Village, in Hueco Tanks State Park and Historic Site, El Paso County, TX. The human remains were inventoried as “Burial 14.” Burial 14 has no specific provenience, but it was likely removed from the Hueco Tanks Village site since it was found in the site collection. No known individual was identified. No associated funerary objects are present.

At an unknown date, human remains representing a minimum of one individual were removed from Hueco Tanks State Park and Historic Site, El Paso County, TX. The human remains were inventoried as “Burial 15.” Burial 15 has no specific provenience, but was found in the site collection. No known individual was identified. No associated funerary objects are present.

The human remains and associated funerary objects described above are culturally affiliated with the Comanche Nation, Oklahoma; Kiowa Indian Tribe of Oklahoma; Mescalero Apache Tribe of the Mescalero Reservation, New Mexico; Pueblo of Isleta, New Mexico; and the Ysleta Del Sur Pueblo of Texas. The determination of the cultural affiliation of the human remains and associated funerary objects described above was based upon oral tradition, archeological context, osteological evidence, and artifacts. In addition, primary information sources, such as accession and catalog records and consultation with Indian tribal officials and traditional religious leaders, support this finding of cultural affiliation.

Officials of the Texas Parks and Wildlife Department have determined that, pursuant to 25 U.S.C. 3001(9), the human remains described above represent the physical remains of 15 individuals of Native American ancestry. Officials of the Texas Parks and Wildlife Department also have determined that, pursuant to 25 U.S.C. 3001(3)(A), the 96 objects described above are reasonably believed to have been placed with or near individual human remains at the time of death or later as part of the death rite or ceremony. Lastly, officials of the Texas Parks and Wildlife Department have determined that, pursuant to 25 U.S.C. 3001(2), there is a relationship of shared group identity that can be reasonably traced between the Native American human remains and associated funerary objects and the Comanche Nation, Oklahoma; Kiowa Indian Tribe of Oklahoma; Mescalero Apache Tribe of the Mescalero Reservation, New Mexico; Pueblo of Isleta, New Mexico; and the Ysleta Del Sur Pueblo of Texas.

Representatives of any other Indian tribe that believes itself to be culturally affiliated with the human remains and associated funerary objects should contact Aina Dodge, Texas Parks and Wildlife Department, 4200 Smith School Road, Austin, TX 78744, telephone (512) 389-4876, before September 23, 2010. Repatriation of the human remains and/or associated funerary objects to the Comanche Nation, Oklahoma; Kiowa Indian Tribe of Oklahoma; Mescalero Apache Tribe of the Mescalero Reservation, New Mexico; Pueblo of Isleta, New Mexico; and the Ysleta Del Sur Pueblo of Texas, may proceed after that date if no additional claimants come forward.

The Texas Parks and Wildlife Department is responsible for notifying the Comanche Nation, Oklahoma; Kiowa Indian Tribe of Oklahoma; Mescalero Apache Tribe of the Mescalero Reservation, New Mexico; Pueblo of Isleta, New Mexico; and the Ysleta Del Sur Pueblo of Texas, that this notice has been published.

Dated: August 18, 2010.
David Tarler,
Acting Manager, National NAGPRA Program.

[FR Doc. 2010-20941 Filed 8-23-10; 8:45 am]

BILLING CODE 4312-50-S